DEPARTMENT OF COMMERCE

National Institute of Standards and Technology

Announcing a Workshop on Storage and Processor Card-based Technologies

AGENCY: National Institute of Standards and Technology (NIST).

ACTION: Notice of public workshop.

SUMMARY: The National Institute of Standards and Technology (NIST) announces a workshop to identify current and planned Federal government activities and related needs, general issues, existing voluntary industry consensus standards, gap areas in standards coverage, and industry capabilities in the field of storage and processor card technologies. It is anticipated that the workshop will support development of a standards roadmap, and a guideline on storage and processor card technologies to include multitechnology composition issues. The goal of this initial workshop is to develop and exchange information on the standards for and capabilities of multitechnology storage and processor cards. This workshop is not being held in anticipation of a planned procurement activity. The detailed draft agenda and supporting documentation for the workshop will be available from the NIST Computer Security Resource Center Web site at http://csrc.nist.gov by May 9, 2003.

DATES: The workshop will be held on July 8, 2003, from 9 a.m. to 5 p.m. It is anticipated that this will be a one-day workshop, but provisions are being made to support a second day in case the response to this announcement supports an expanded agenda.

ADDRESSES: The workshop will be held in the Administration Building (Bldg. 101), Green Auditorium, National Institute of Standards and Technology, Gaithersburg, MD.

FOR FURTHER INFORMATION CONTACT: Further information, when available, may be obtained from the Computer Security Resource Center Web site at http://csrc.nist.gov or by contacting Terry Schwarzhoff or Curt Barker, National Institute of Standards and Technology, Building 100 Bureau Drive, Stop 8930, Gaithersburg, MD 20899-8930; telephone 301-975-5727; Fax 301-948-1233, or e-mail terry.schwarzhoff@nist.gov or wbarker@nist.gov.

SUPPLEMENTARY INFORMATION: Many technologies, such as optical stripe media, barcodes, magnetic stripes, contactless integrated chips, and the smart card integrated circuit chip have been implemented on card platforms. Voluntary industry consensus standards for many of these technologies are already available, but have not been integrated (directly or by reference) into one single document for use by federal agencies. This roadmap would provide a reference to the existing standards for these card technologies and help identify gap areas for the wider card technology community. Many card platforms include anti-counterfeit elements to increase the security of the physical platform. Some examples of these are holograms, optical variable devices (OVDs), laser etching, and ghost/shadow printing, but again have not been addressed in a single document with respect to integration with card technologies.

The General Accounting Office recently issued a report on “Progress in Promoting Adoption of Smart Card Technology” (GAO-03-144, February 5, 2003). The Report provides a set of Recommendations (pp. 35) that reinforce the role of the National Institute of Standards and Technology (NIST) in the U.S. Government Smart Card (GSC) program. The report recommends that the Director, NIST, continue to improve and update the government smart card interoperability specification by addressing government-wide standards for additional technologies to ensure broad interoperability among federal agency systems. A key NIST response to the GAO recommendation is to develop a guideline that addresses applicable standards for multiple technologies that can coexist on card platforms.

NIST will lead an effort to develop a document/technical report as a roadmap/guideline, in coordination with other agencies and private industry.

The initial workshop is being held to identify the state of candidate technologies and to provide the basis for development of guidelines. Workshop topics are planned to include:

—Current government card-related activities/needs,

—card-based technology attributes,

—industry activities

—card related voluntary industry consensus standards

—and multitechnology interoperability issues.

Advance registration is required. To register, please fax your name, address, telephone, fax and e-mail address to 301-926-2733 (Attn: Card-Based Technology Workshop) by June 9, 2003. Registration by electronic mail should be addressed to vickie.harris@nist.gov. Registration questions should be addressed to Vickie Harris on 301-975-2934. Due to NIST security regulations regarding access to this site, registration will not be available at the door. The workshop will be open to the public.

Authority

This work effort is being initiated pursuant to NIST's responsibilities under the Federal Information Security Management Act of 2002, the Information Technology Management Reform Act of 1996, Executive Order 13011, and OMB Circular A-130.

Dated: April 1, 2003.
Karen H. Brown,
Deputy Director.

[FR Doc. 03-8380 Filed 4-4-03; 8:45 am]

BILLING CODE 3510-13-P